DEPARTMENT OF COMMERCE

National Oceanic and Atmospheric Administration

50 CFR Part 648

[Docket No. 060314069-6069-01; I.D. 071106A]

Magnuson-Stevens Fishery Conservation and Management Act Provisions; Fisheries of the Northeastern United States; Atlantic Sea Scallop Fishery; Closure of the Nantucket Lightship Scallop Access Area to General Category Scallop Vessels

AGENCY: National Marine Fisheries Service (NMFS), National Oceanic and Atmospheric Administration (NOAA), Department of Commerce.

ACTION: Temporary rule; closure.

SUMMARY: NMFS announces that the 577 allowed trips for general category scallop vessels into the Nantucket Lightship Scallop Access Area (NLCA) are projected to be taken by 0001 hr local time, July 13, 2006. The area will be closed to general category vessels until it reopens on June 15, 2007. This action is being taken to prevent the allocation of general category trips in the NLCA from being exceeded during the 2006 fishing year in accordance with the regulations implemented under Framework 18 to the Atlantic Sea Scallop Fishery Management Plan (FMP) and the Magnuson-Stevens Fishery Conservation and Management Act.

DATES: The closure of the NLCA to all general category scallop vessels is effective 0001 hr local time, July 13, 2006, through June 14, 2007.

FOR FURTHER INFORMATION CONTACT: Ryan Silva, Fishery Management Specialist, (978) 281-9326, fax (978) 281-9135.

SUPPLEMENTARY INFORMATION: Regulations governing fishing activity in the Sea Scallop Access Areas are found at 50 CFR 648.59 and 648.60. Regulations specifically governing general category scallop vessel operations in the NLCA are specified at § 648.59(d)(5)(ii). These regulations authorize vessels issued a valid general category scallop permit to fish in the NLCA under specific conditions, including a cap of 577 trips to be made by general category vessels during the 2006 fishing year. The regulations at § 648.59(d)(5)(ii) close the NLCA to general category scallop vessels once the Northeast Regional Administrator (RA) has determined that the allowed number of trips are projected to be taken.

Based on Vessel Monitoring System (VMS) trip declarations by general category scallop vessels fishing in the NLCA and analysis of fishing effort, a projection concluded that, given current activity levels by general category scallop vessels in the area, the trip cap would be attained on July 13, 2006. Therefore, in accordance with the regulations at 50 CFR 648.59(d)(5)(ii), the NLCA is closed to all general category scallop vessels as of 0001 hr local time, July 13, 2006. This closure is in effect for the remainder of the 2006 Access Area Season, which ends January 31, 2007. The NLCA is scheduled to re-open to scallop fishing, including trips for general category scallop vessels, on June 15, 2007, unless the schedule for scallop access areas is modified by the New England Fishery Management Council.

Classification

This action is required by 50 CFR part 648 and is exempt from review under Executive Order 12866.

This action closes the NLCA to all general category scallop vessels until June 15, 2007. The regulations at § 648.59(d)(5)(ii) allow such action to ensure that general category scallop vessels do not take more than their allocated number of trips in the Scallop Access Area. The NLCA opened for the 2006 fishing year on June 15, 2006. Data indicating the general category scallop fleet has taken all of the NLCA trips have only recently become available. To allow general category scallop vessels to continue to take trips in the NLCA during the period necessary to publish and receive comments on a proposed rule would result in vessels taking much more than the allowed number of trips in the NLCA. Excessive trips and harvest from the Scallop Access Area would result in excessive fishing effort in the Access Area, where effort controls are critical. Should excessive effort occur in the Access Area, future management measures would need to be more restrictive. Based on the above, under 5 U.S.C. 553(d)(3), proposed rulemaking is waived because it would be impracticable and contrary to the public interest to allow a period for public comment. Furthermore, for the same reasons, there is good cause under 5 U.S.C 553(d)(3) to waive the 30-day delayed effectiveness period for this action.

Authority: 16 U.S.C. 1801 et seq.

Dated: July 11, 2006.
Alan D. Risenhoover,
Acting Director, Office of Sustainable Fisheries, National Marine Fisheries Service.

[FR Doc. 06-6236 Filed 7-11-06; 2:45 pm]

BILLING CODE 3510-22-S